DEPARTMENT OF COMMERCE

National Oceanic and Atmospheric Administration

Evaluation of State Coastal Management Program and National Estuarine Research Reserves

AGENCY: National Oceanic and Atmospheric Administration (NOAA), Office of Ocean and Coastal Resource Management, National Ocean Service, Commerce.

ACTION: Notice of Intent to Evaluate: Correction.

SUMMARY: The NOAA Office of Ocean and Coastal Resource Management (OCRM) published a notice in the Federal Register on 25 July 2014 announcing its intent to evaluate the Chesapeake Bay National Estuarine Research Reserve in Virginia, Waquoit Bay National Estuarine Research Reserve, and Indiana Coastal Management Program. This document contains corrections to that notice, regarding the date of the public meeting for the Chesapeake Bay National Estuarine Research Reserve in Virginia and the dates for which written comments will be accepted for the Chesapeake Bay National Estuarine Research Reserve in Virginia, Waquoit Bay National Estuarine Research, and Indiana Coastal Management Program.

DATES: Date and Time: The public meeting for the Chesapeake Bay National Estuarine Research Reserve in Virginia will be held Thursday, September 18, at 5:00 p.m. local time at the Wilson House at 7581 Spencer Road, Glouster Point, VA 23062.

ADDRESSES: Written comments from interested parties are encouraged and will be accepted until September 12, 2014 for the Indiana Coastal Management Program and Waquoit Bay National Estuarine Research Reserve and will be accepted until September 19, 2014 for the Chesapeake Bay National Estuarine Research Reserve in Virginia. Please direct all written comments to Carrie Hall, Evaluator, National Policy and Evaluation Division Office of Ocean and Coastal Resource Management, NOS/NOAA, 1305 East-West Highway, 10th Floor, N/ORM7, Silver Spring, Maryland 20910, (301) 563-1135, or Carrie.Hall@noaa.gov. All other portions of the 25 July notice remain unchanged.

FOR FURTHER INFORMATION CONTACT: Carrie Hall, Evaluator, National Policy and Evaluation Division, Office of Ocean and Coastal Resource Management, NOS/NOAA, 1305 East-West Highway, 10th Floor, N/ORM7, Silver Spring, Maryland 20910, (301) 563-1135, or Carrie.Hall@noaa.gov.

Federal Domestic Assistance Catalog 11.419.

Dated: August 22, 2014.
Coastal Zone Management Program Administration.
Donna Rivelli,
Deputy Associate Assistant Administrator for Management and CFO/CAO, Ocean Services and Coastal Zone Management, National Oceanic and Atmospheric Administration.

[FR Doc. 2014-20488 Filed 8-27-14; 8:45 am]

BILLING CODE 3510-08-P